Title 3—

The President

Proclamation 8719 of September 22, 2011

National Public Lands Day, 2011

By the President of the United States of America

A Proclamation

At the dawn of the 20th century, President Theodore Roosevelt embarked on a tour of the American West that forever changed our Nation’s relationship with the outdoors. His visits to Yellowstone, Yosemite, the Grand Canyon, and other natural wonders instilled in him a commitment to conservation, and they motivated him to designate millions of acres of protected land. Today, our public lands system is a model of conservation and an important resource for clean energy, grazing, and recreation—vital economic engines in both rural and urban communities.

On National Public Lands Day, we take time to appreciate our parks, national forests, wildlife refuges, and other public spaces, and we recommit to protecting and restoring them for future generations. This year, thousands of dedicated volunteers will continue a proud American tradition by conserving and restoring our public lands with local projects across our Nation. Americans will restore hiking trails, remove invasive plant species, clean lakes, and pick up litter in city parks. Through their service, families and children will find opportunities for outdoor activity on the millions of acres of national forests, parks, and trails.

To maintain our environmental heritage and build a responsive conservation and recreation agenda, my Administration launched the America’s Great Outdoors Initiative last year. We met with thousands of Americans in listening sessions across our country, and compiled the results of this national conversation in the report, America’s Great Outdoors: A Promise to Future Generations. To act on these findings, we are undertaking projects in collaboration with State, local, and tribal governments to responsibly steward the lands that belong to all Americans. First Lady Michelle Obama also joined in support of getting Americans outside when the Let’s Move! initiative, in coordination with the Department of the Interior, launched Let’s Move Outside! to help families exercise in the great outdoors.

Countless Americans have experienced the same awe and wonder that President Roosevelt felt on his westward journey. By joining in this legacy of conservation, Americans young and old protect not only our lands, but also the promise that future generations will be able to carry forward the spirit of adventure that lies at the heart of our Nation.

NOW, THEREFORE, I, BARACK OBAMA, President of the United States of America, by virtue of the authority vested in me by the Constitution and the laws of the United States, do hereby proclaim September 24, 2011, as National Public Lands Day. I encourage all Americans to participate in a day of public service for our lands.

IN WITNESS WHEREOF, I have hereunto set my hand this twenty-second day of September, in the year of our Lord two thousand eleven, and of the Independence of the United States of America the two hundred and thirty-sixth.

[FR Doc. 2011-25037

Filed 9-26-11; 11:15 am]

Billing code 3195-W1-P